DEPARTMENT OF HOUSING AND URBAN DEVELOPMENT

[Docket No. FR-6174-D-01]

Order of Succession for the Office of Community Planning and Development

AGENCY: Office of the Secretary, HUD.

ACTION: Notice of Order of Succession for the Office of Community Planning and Development.

SUMMARY: In this notice, the Secretary of HUD designates the Order of Succession for the Office of Community Planning and Development (CPD). This Order of Succession supersedes all prior Orders of Succession for the Assistant Secretary for Community Planning and Development, including the Order of Succession published on April 20, 2015.

DATES: August 1, 2019.

FOR FURTHER INFORMATION CONTACT: John Biechman, Field Management Officer and CPD Continuity of Operations Plan Coordinator, Office of Field Management, Office of Community Planning and Development, Department of Housing and Urban Development, 451 7th Street SW, Room 7228, Washington, DC 20410-7000, telephone number 202-402-2252 (this is not a toll-free number). Persons with hearing or speech impairments may access this telephone number via TTY by calling the Federal Relay Service, toll-free, at 1-800-877-8339.

SUPPLEMENTARY INFORMATION: The Secretary of HUD is issuing this Order of Succession of officials authorized to perform the functions and duties of the Office of the Assistant Secretary for Community Planning and Development when the Assistant Secretary is not available to exercise the powers or perform the duties of the office. This Order of Succession is subject to the provisions of the Federal Vacancies Reform Act of 1998 (5 U.S.C. 3345-3349d). This publication supersedes all prior orders of succession for the Office of Community Planning and Development, including the Order of Succession published in the Federal Register on April 20, 2015 at 80 FR 21755.

Section A. Order of Succession

Subject to the provisions of the Federal Vacancies Reform Act of 1998, during any period when, by reason of absence, disability, or vacancy in office, the Assistant Secretary for Community Planning and Development is not available to exercise the powers or perform the duties of the Assistant Secretary for Community Planning and Development the following officials within the Office of Community Planning and Development are hereby designated to exercise the powers and perform the duties of the Office, including the authority to waive regulations:

(1) Principal Deputy Assistant Secretary for Community Planning and Development.

(2) General Deputy Assistant Secretary for Community Planning and Development.

(3) Deputy Assistant Secretary for Grant Programs.

(4) Deputy Assistant Secretary for Special Needs Programs.

(5) Deputy Assistant Secretary for Economic Development.

(6) Deputy Assistant Secretary for Operations.

(7) CPD Regional Office Director, Philadelphia.

(8) CPD Regional Office Director, Kansas City.

(9) CPD Regional Office Director, Boston.

These officials shall perform the functions and duties of the Office in the order specified herein, and no official shall serve unless all the other officials, whose positions precede his/hers in this order, are unable to act by reason of absence, disability, or vacancy in office. No individual who is serving in an office listed above in an acting capacity shall act as the Assistant Secretary for Community Planning and Development pursuant to this Order of Succession.

Section B. Authority Superseded

This Order of Succession supersedes all prior orders of succession for the Office of Community Planning and Development, including the one published at 80 FR 21755 on April 20, 2015.

Authority: Section 7(d), Department of Housing and Urban Development Act, 42 U.S.C. 3535(d).

Dated: August 1, 2019.
Brian D. Montgomery,
Acting Deputy Secretary.

[FR Doc. 2019-17330 Filed 8-12-19; 8:45 am]

BILLING CODE 4210-67-P